DEPARTMENT OF ENERGY

Federal Energy Regulatory Commission

[Docket No. CP09-68-000]

Texas Eastern Transmission, LP; Supplemental Notice of Intent To Prepare an Environmental Assessment for the Proposed TEMAX and TIME III Projects and Alternative and Request for Comments on Environmental Issues

March 13, 2009.

As previously noticed on November 18, 2008, and supplemented herein, the staff of the Federal Energy Regulatory Commission (FERC or Commission) will prepare an environmental assessment (EA) that will discuss environmental impacts that could result from the construction and operation of the Texas Eastern Market Area Crossing Project (TEMAX) and Texas Eastern Incremental Market Area Expansion III Project (TIME III) proposed by Texas Eastern Transmission, LP (Texas Eastern). The projects are proposed by Texas Eastern to expand the natural gas transportation capacity of its existing pipeline system in southern Pennsylvania. The EA will be used by the Commission in its decision-making process to determine whether the project is in the public convenience and necessity.

This Supplemental Notice of Intent (NOI) announces the opening of a limited scoping period the Commission will use to gather input from the public and interested agencies on the proposed projects, and specifically, the Chambersburg Alternative consisting of about 12.5 miles of additional pipeline replacement in Franklin and Adams Counties, Pennsylvania. Your input will help determine which issues need to be evaluated in the EA regarding the Chambersburg Alternative in the event that Texas Eastern is unable to install the proposed compressor unit at the Heidlersburg Compressor Station. Please note that the limited scoping period for the Chambersburg Alternative will close on April 13, 2009.

This notice is being sent to landowners affected by the Chambersburg Alternative; Federal, State, and local government representatives and agencies; environmental and public interest groups; elected officials; Native American Tribes; other interested parties; and local libraries and newspapers. State and local government representatives are asked to notify their constituents of the planned project and to encourage them to comment on their areas of concern.

If you are a landowner receiving this notice, you may be contacted by a Texas Eastern representative about the acquisition of an easement to construct, operate, and maintain the planned facilities. The pipeline company would seek to negotiate a mutually acceptable agreement. However, if the project is approved by the Commission, that approval conveys with it the right of eminent domain. Therefore, if easement negotiations fail to produce an agreement, the pipeline company could initiate condemnation proceedings in accordance with Federal or State law.

A fact sheet prepared by the FERC entitled “An Interstate Natural Gas Facility On My Land? What Do I Need To Know?” is available for viewing on the FERC Internet Web site (http://www.ferc.gov). This fact sheet addresses a number of typically asked questions, including the use of eminent domain and how to participate in the Commission's proceedings.

Summary of the Proposed Projects

Texas Eastern's existing natural gas pipeline system consists of over 9,000 miles of pipeline from the Gulf Coast to the Northeastern United States, and includes its Main Line 1 and Main Line 2.

To expand its system in southern Pennsylvania Texas Eastern is requesting authorization to replace 25.9 miles of various diameter pipeline, construct 9.6 miles of loop,¹ use of 0.8 mile of existing pipeline, and construct 26.5 miles of new pipeline lateral.² In addition, Texas Eastern requests authorization to add 85,633 horsepower (hp) of compression at four existing compressor stations and abandon 9,500 hp of compression at one compressor station, resulting in a net increase of 76,133 hp of compression for the projects. Texas Eastern also requests authorization to uprate the maximum allowable operating pressure of its existing Lines 1 and 2 from 1,000 to 1,112 pounds per square inch gauge for 268 miles between its Uniontown and Marietta Compressor Stations. The proposed facilities are located in Greene, Bedford, Franklin, Adams, Lancaster and York Counties, Pennsylvania.

¹ A pipeline “loop” is a segment of pipe installed adjacent and parallel to an existing pipeline system that is connected to the system at both ends. A loop allows more gas to be moved through that portion of the pipeline system or functions as a backup system.

² On February 27, 2009, Texas Eastern filed its application with the Commission under Section 7 of the Natural Gas Act and Part 157 of the Commission's Regulations. Prior to the formal application filing, Commission staff initiated its review of the TEMAX and TIME III Projects under the Commission's Pre-filing Process on July 25, 2008, in Docket No. PF08-27-000. As indicated in the Notice of Application issued by the Commission on March 11, 2009, the Pre-filing Process for these projects has ended and this proceeding will be conducted in Docket No. CP09-68-000.

The purpose of the TEMAX Project is to provide additional natural gas transportation capacity of 395,000 dekatherms per day (Dth/d) from a receipt point with the Rockies Express Pipeline LLC in Clarington, Ohio, to an interconnect with Transcontinental Gas Pipeline Company, LLC (Transco) in York County, Pennsylvania. The TIME III Project would provide additional transportation capacity of 60,000 Dth/d from a receipt point in Oakford, Pennsylvania to the same interconnect with Transco.

More specifically, Texas Eastern plans the following:

The Holbrook Discharge

• Construct 0.5 mile of 36-inch-diameter loop as an addition onto the existing Line 30;

• Replace 9.2 miles of the existing 20-inch-diameter Line 2 and 24-inch-diameter Line 1 with 36-inch-diameter pipeline; and

• Construct 9.1 miles of 36-inch-diameter loop.

The Uniontown Discharge

• Replace 3.7 miles of the existing 24-inch-diameter Line 1 with 36-inch-diameter pipeline.

The Bedford Discharge

• Replace 6.8 miles of the existing 24-inch-diameter Line 1 with 36-inch-diameter pipeline.

The Chambersburg Discharge

• Replace 2.1 miles of the existing 24-inch-diameter Line 1 with 36-inch-diameter pipeline, and the Chambersburg Alternative would consist of about 12.5 miles of additional pipeline replacement with 36-inch-diameter pipeline.

The Heidlersburg Discharge

• Replace 2.4 miles of the existing 24-inch-diameter Line 1 with 36-inch-diameter pipeline.

The Marietta Extension

• Replace 1.7 miles of the existing 24-inch-diameter Line 1 with 36-inch-diameter pipeline;

• Utilize 0.8 mile of existing 36-inch-diameter pipeline crossing the Susquehanna River; and

• Construct 26.5 miles of new 30-inch-diameter pipeline lateral to the interconnect with Transco.

The Holbrook Compressor Station

• Abandon one 2,000-horsepower (hp) reciprocating gas-powered compressor unit; and

• Install a 13,333-hp turbine-driven centrifugal compressor.

The Uniontown Compressor Station

• Install a 20,000-hp electric-powered compressor unit.

The Bedford Compressor Station

• Install pressure regulators on Line 1 and 2.

The Chambersburg Compressor

• Abandon three reciprocating gas-powered compressor units totaling 7,500 hp;

• Install a new 27,000-hp electric-powered compressor unit; and

• Add 3,330 hp to the existing electric-powered compressor unit.

The Heidlersburg Compressor Station

• Install a 22,000-hp electric-powered compressor unit.

The Chambersburg Alternative was filed in the event that electricity is not available to support the proposed horsepower modifications at the proposed Heidlersburg Compressor Station in Adams County. Specifically, the Chambersburg Alternative consists of adding an additional 12.5 miles of 36-inch-diameter pipeline replacement to the Chambersburg Discharge. The power company supplying the electric power to the proposed additional compression at the Heidlersburg Compressor Station is conducting a study to determine if the electricity is available to support the station modification. To ensure the projects can supply the proposed natural gas volume on schedule, this alternative was developed in the event the electricity for the compressor station is not available.

The general location of the planned facilities and the Chambersburg Alternative is shown in appendix A.³

³ The appendices referenced in this notice are not being printed in the Federal Register. Copies of all appendices are available on the Commission's Web site at the “eLibrary” link or from the Commission's Public Reference Room, 888 First Street, NE., Washington, DC 20426, or call (202) 502-8371. For instructions on connecting to eLibrary, refer to the “Additional Information” section of this notice. Copies of the appendices were sent to all those receiving this notice in the mail. Requests for detailed maps of the proposed facilities should be made directly to Texas Eastern.

Land Requirement for Construction

Construction of the TEMAX/TIME III Projects would require about 602.1 acres of land including pipeline, aboveground facilities, appurtenant facilities, and pipe storage and contractor yards. Following construction, about 543.2 acres would be used for operation of the proposed facilities. If constructed, the Chambersburg Alternative would require an additional 184.0 acres for construction. The area disturbed during construction but not required for operation and would generally be allowed to revert to pre-construction condition.

The planned pipeline loops would be located within and directly adjacent to Texas Eastern's existing pipeline facilities to the extent practicable. Construction and operation of the modifications to existing compressor stations would occur within the existing facilities.

The EA Process

The National Environmental Policy Act (NEPA) requires the Commission to take into account the environmental impact that could result whenever it considers the issuance of a Certificate of Public Convenience and Necessity. NEPA also requires us ⁴ to discover and address concerns the public may have about proposals. This process is referred to as “scoping.” The main goal of the scoping process is to focus the analysis in the EA on the important environmental issues. By this Supplemental NOI, the Commission staff requests public comments on the scope of the issues to address in the EA, and specifically for comments on the Chambersburg Alternative.⁵ All comments received will be considered during the preparation of the EA. State and local government representatives are encouraged to notify their constituents of this proposed action and encourage them to comment on their areas of concern.

⁴ ”We,” “us,” and “our” refer to the environmental staff of the FERC's Office of Energy Projects.

⁵ The original NOI for the TEMAX and TIME III Projects was issued on November 18, 2008, and the scoping period closed on December 19, 2008. The original NOI was sent to affected landowners; Federal, State, and local government agencies; elected officials; Native American groups; other interested parties; and local libraries and newspapers.

The EA will discuss impacts that could occur as a result of the construction and operation of the Projects under these general headings:

• Geology and soils;

• Land use and visual quality;

• Water quality and wetlands;

• Cultural resources;

• Vegetation and wildlife;

• Threatened and endangered species;

• Air quality and noise; and

• Reliability and safety.

We will also evaluate possible alternatives to the proposed projects or portions of the projects, and make recommendations on how to lessen or avoid impacts on the various resource areas.

Our independent analysis of the issues will be presented in the EA. Depending on the comments received during the scoping process, the EA may be published and mailed to Federal, State, and local agencies; public interest groups; Native American Tribes; interested individuals; affected landowners; newspapers; libraries; and the Commission's official service list for this proceeding. A comment period will be allotted for review when the EA is published. We will consider all comments on the EA before we make our recommendations to the Commission. To ensure your comments are considered, please carefully follow the instructions in the Public Participation section below.

Currently Identified Environmental Issues

Based on our review of Texas Eastern's recently filed Chambersburg Alternative and preliminary consultations with other agencies, we have already identified several environmental issues that we think deserve attention. This preliminary list of issues for the Chambersburg Alternative may be changed based on your comments and our analysis:

• Location near the Michaux State Forest;

• Crosses the Caledonia State Park; and

• Crosses the Appalachian National Scenic Trail.

Public Participation

You can make a difference by providing us with your specific comments or concerns about the TEMAX/TIME III Projects. Your comments should focus on the potential environmental effects of the proposal, reasonable alternatives, and measures to avoid or lessen environmental impact. The more specific your comments, the more useful they will be. To ensure that your comments are timely and properly recorded, please send in your comments so that they will be received in Washington, DC on or before April 13, 2009.

For your convenience, there are three methods you can use to submit your written comments to the Commission. In all instances, please reference the project docket number CP09-68-000 with your submission. The Commission encourages electronic filing of comments and has dedicated eFiling expert staff available to assist you at 202-502-8258 or efiling@ferc.gov.

(1) You may file your comments electronically by using the Quick Comment feature, which is located on the Commission's internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 1, PJ-11.1.

Becoming an Intervenor

In addition to involvement in the EA scoping process, you may become an “intervenor,” which is an official party to the proceeding now that Texas Eastern has formally filed its application with the Commission. Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Internet Web site.

Environmental Mailing List

An effort is being made to send this notice to all individuals, organizations, and government entities interested in and/or potentially affected by the planned project. This includes all landowners who are potential right-of-way grantors, whose property may be used temporarily for project purposes, or who own homes within distances defined in the Commission's regulations of certain aboveground facilities.

If you do not want to send comments at this time but still want to remain on our mailing list, please return the Information Request (Appendix B). If you do not return the Information Request, you will be taken off the mailing list.

Availability of Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Public meetings or site visits will be posted on the Commission's calendar located at http://www.ferc.gov/EventCalendar/EventsList.aspx along with other related information.

Finally, to request additional information on the project or to provide comments directly to the project sponsor, you can contact Texas Eastern directly by calling toll free at 1-800-831-0043. Also, Texas Eastern has established an Internet Web site at http://www.spectraenergy.com/what_we_do/projects/temax_timeiii/ with additional information about the projects.

Kimberly D. Bose,
Secretary.

[FR Doc. E9-6077 Filed 3-19-09; 8:45 am]

BILLING CODE